DEPARTMENT OF THE INTERIOR

Office of the Secretary

[Docket No. ONRR-2012-0003; DS63600000 DR2PS0000.PX8000 134D0102R2]

U.S. Extractive Industries Transparency Initiative Multi-Stakeholder Group (USEITI MSG) Advisory Committee

AGENCY: Policy, Management and Budget, Interior.

ACTION: Meeting notice.

SUMMARY: This notice announces the next two meetings of the United States Extractive Industries Transparency Initiative (USEITI) Multi-Stakeholder Group Advisory Committee.

DATES: The meetings will be held as follows: Wednesday, June 12, 2013, and Thursday, June 13, 2013, from 9:30 a.m. to 5 p.m.; and Tuesday, July 23, 2013, and Wednesday, July 24, 2013, from 9:30 a.m. to 5 p.m.

ADDRESSES: Meetings will be held at the Main Interior Building, 1849 C Street NW., Washington, DC 20240. Room numbers will be provided at the entrance each day of the meetings, and also posted on the final agendas at www.doi.gov/eiti/faca.

FOR FURTHER INFORMATION CONTACT: USEITI Staff, Office of the Assistant Secretary—Policy, Management and Budget; 1849 C Street NW., Room 5117, Washington, DC 20240. You may also contact the USEITI Staff via email at useiti@ios.doi.gov, by phone at 202-208-0272, or by fax at 202-513-0734.

SUPPLEMENTARY INFORMATION: The U.S. Department of the Interior established the USEITI Advisory Committee (Committee) on July 26, 2012 to serve as the initial USEITI multi-stakeholder group. More information about the Committee, including its charter, can be found at www.doi.gov/eiti/faca.

Meeting Agenda: Agenda items for the June 12-13, 2013, meeting will include legal context for revenue disclosures, consideration of sub-national payments, and discussions on scope and materiality. The agenda for the July 23-24, 2013, meeting will include criteria and components for the U.S. draft candidacy application for EITI. The final agendas and materials for the meetings will be posted on the Committee Web site at www.doi.gov/eiti/faca. All Committee meetings are open to the public.

Members of the public may attend in person, or view documents and presentations under discussion via WebEx at http://bit.ly.ZQ9aQP and listen to the proceedings at telephone number 1-866-707-0640 (Passcode: 1500538). Whenever possible, we encourage those participating by telephone to gather in conference rooms in order to share teleconference lines. Please plan to dial into the meeting and/or log-in to WebEx at least 10-15 minutes prior to the scheduled start time in order to avoid possible technical difficulties. Individuals with special needs will be accommodated whenever possible. If you require special assistance (such as an interpreter for the hearing impaired), please notify USEITI staff in advance of the meeting at 202-208-0272 or via email at useiti@ios.doi.gov. Anyone wishing to provide comments during the public comment period must submit written statements to useiti@doi.gov by June 7, 2013, for the June 12-13, 2013, meeting and by July 19, 2013, for the July 23-24, 2013 meeting. In addition, individuals or groups wishing to make comments in person or via the teleconference line may do so for up to two minutes each during the designated time on the agenda, as time permits.

The minutes from these proceedings will be posted at http://www.doi.gov/eiti/faca and will also be available for public inspection and copying at our office in the Main Interior Building in Washington, DC, by contacting USEITI staff at useiti@ios.doi.gov or by telephone at 202-208-0272. For more information about USEITI, visit http://www.doi.gov/eiti.

Dated: May 22, 2013.
Amy Holley,
Chief of Staff—Policy, Management and Budget.

[FR Doc. 2013-12698 Filed 5-28-13; 8:45 am]

BILLING CODE 4310-T2-P